AGENCY FOR INTERNATIONAL DEVELOPMENT

Notice of October 19, 2016 Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

Date: Wednesday, October 19, 2016.

Time: 2:00-4:00 p.m.

Location: Pavilion Room, The Ronald Reagan Building, 1300 Pennsylvania Ave. NW., Washington, DC 20004.

Purpose

The Advisory Committee on Voluntary Foreign Aid (ACVFA) brings together USAID and private voluntary organization officials, representatives from universities, international nongovernment organizations, U.S. businesses, and government, multilateral, and private organizations to foster understanding, communication, and cooperation in the area of foreign aid.

Agenda

USAID Administrator Gayle Smith will make opening remarks, followed by panel discussions among ACVFA members and USAID leadership on global development trends. The full meeting agenda will be forthcoming on the ACVFA Web site at http://www.usaid.gov/who-we-are/organization/advisory-committee.

Stakeholders

The meeting is free and open to the public. Registration information will be forthcoming on the ACVFA Web site at http://www.usaid.gov/who-we-are/organization/advisory-committee.

FOR FURTHER INFORMATION CONTACT: Jayne Thomisee, acvfa@usaid.gov.

Dated: October 3, 2016.
Jayne Thomisee,
Executive Director & Policy Advisor, U.S. Agency for International Development.

[FR Doc. 2016-24525 Filed 10-7-16; 8:45 am]

BILLING CODE P